DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on December 9, 2024. See Supplementary Information for relevant dates.

FOR FURTHER INFORMATION CONTACT: OFAC: Associate Director for Global Targeting, tel.: 202-622-2420; Assistant Director for Sanctions Compliance & Evaluation, tel.: 202-622-2490 or https://ofac.treasury.gov/contact-ofac.

SUPPLEMENTARY INFORMATION:

Electronic Availability

The SDN List and additional information concerning OFAC sanctions programs are available on OFAC's website: https://ofac.treasury.gov.

Notice of OFAC Actions

On December 9, 2024, OFAC determined that the property and interests in property subject to U.S. jurisdiction of the following persons are blocked under the relevant sanctions authorities listed below.

Individuals

1. PATTNI, Kamlesh Mansukhlal Damji, United Arab Emirates; DOB 12 Mar 1965; POB Mombasa, Kenya; nationality Kenya; alt. nationality United Kingdom; Gender Male; Passport CK23926 (Kenya) expires 11 Mar 2029 (individual) [GLOMAG].

Designated pursuant to section 1(a)(iii)(A)(1) of Executive Order (E.O.) 13818 of December 20, 2017, “Blocking the Property of Persons Involved in Serious Human Rights Abuse or Corruption,” 82 FR 60839 (Dec. 26, 2017) (E.O. 13818 or the “Order”) for having materially assisted, sponsored, or provided financial, material, or technological support for, or goods or services to or in support of, corruption, including the misappropriation of state assets, the expropriation of private assets for personal gain, corruption related to government contracts or the extraction of natural resources, or bribery, that is conducted by a foreign person.

2. ABAKUMOV, Dmytro, 426 Kempinski Residence Palm Jumeirah, Dubai, United Arab Emirates; DOB 14 Jul 1992; POB Chutove, Ukraine; nationality Ukraine; Gender Male; Passport PU664588 (United Arab Emirates) expires 09 Sep 2032 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

3. CROSBY, David Paul, Zimbabwe; DOB 05 May 1990; nationality United Kingdom; Gender Male; Passport 507244751 (United Kingdom) expires 18 Nov 2021 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

4. PATTNI, Mishaal Hitesh, United Arab Emirates; DOB 11 Aug 1991; nationality Kenya; Gender Male; Passport CK49589 (Kenya) expires 20 Nov 2029 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

5. SANJAY, Raj Vaya (a.k.a. SKORUS, Raj), Zimbabwe; DOB 07 Aug 2000; nationality Kenya; Gender Male; Passport CK65152 (Kenya) expires 08 Sep 2032 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

6. SINHA, Swetang, Zimbabwe; DOB 09 Jun 1985; nationality India; Gender Male; Passport Z5048447 (India) expires 20 Dec 2028 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

7. SOOD, Rahul, House No 6 20 Loiyangalani Drive, Lavington, Nairobi 00500, Kenya; DOB 13 Aug 1978; nationality India; Gender Male; Passport Z6726968 expires 15 Aug 2032 (individual) [GLOMAG] (Linked To: PATTNI, Kamlesh Mansukhlal Damji).

Designated pursuant to section 1(a)(iii)(A)(2) of E.O. for having materially assisted, sponsored, or provided financial, material, or technological support for, or goods or services to or in support of, Kamlesh Mansukhlal Damji Pattni, a person whose property and interests in property are blocked pursuant to E.O. 13818.

8. VAYA, Sanjay Keshavji, Zimbabwe; DOB 04 Sep 1971; nationality Kenya; Gender Male; Passport A1149518 (Kenya) expires 14 Jun 2017 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

9. VAYA, Mukesh Mansukhlal, United Arab Emirates; DOB 19 Sep 1971; nationality Kenya; Gender Male; Passport CK65184 (Kenya) expires 05 Sep 2032 (individual) [GLOMAG] (Linked To: PATTNI, Kamlesh Mansukhlal Damji).

Designated pursuant to section 1(a)(iii)(A)(2) of E.O. 13818 for having materially assisted, sponsored, or provided financial, material, or technological support for, or goods or services to or in support of, Kamlesh Mansukhlal Damji Pattni, a person whose property and interests in property are blocked pursuant to E.O. 13818.

BILLING CODE 4810-AL-P

Lisa M. Palluconi,
Acting Director, Office of Foreign Assets Control.

[FR Doc. 2024-30373 Filed 12-19-24; 8:45 am]

BILLING CODE 4810-AL-C